DEPARTMENT OF THE TREASURY

Customs Service

19 CFR Parts 24, 159 and 174

[T.D. 00-32]

RIN 1515-AB76

Interest on Underpayments and Overpayments of Customs Duties, Taxes, Fees and Interest

AGENCY: U.S. Customs Service, Department of the Treasury.

ACTION: Final rule.

SUMMARY: This document adopts as a final rule interim amendments to the Customs Regulations which conformed those regulations to existing statutory provisions and judicial precedent regarding the assessment of interest due to underpayments or overpayments to Customs of duties, taxes and fees pertaining to imported merchandise, including interest on those duties, taxes and fees. The majority of the conforming changes reflect the terms of section 505 of the Tariff Act of 1930, as amended by the Customs Modernization provisions of the North American Free Trade Agreement Implementation Act. The conforming amendments also reflect changes to 19 U.S.C. 1505 and to section 321 of the Tariff Act of 1930 (19 U.S.C. 1321) regarding interest that were made by the Miscellaneous Trade and Technical Corrections Act of 1996.

DATES: Final rule effective May 17, 2000.

FOR FURTHER INFORMATION CONTACT: Robert Reiley, Financial Management Division (202-927-1504).

SUPPLEMENTARY INFORMATION:

Background

On October 20, 1999, Customs published T.D. 99-75 in the Federal Register (64 FR 56433) setting forth interim amendments to provisions within Parts 24, 159 and 174 of the Customs Regulations (19 CFR Parts 24, 159 and 174) to conform those regulations to existing statutory provisions and judicial precedent regarding the assessment of interest due to underpayments or overpayments to Customs of duties, taxes and fees pertaining to imported merchandise, including interest on those duties, taxes and fees.

The majority of the conforming changes reflected the terms of section 505 of the Tariff Act of 1930 (19 U.S.C. 1505), as amended by section 642(a) within the Customs Modernization provisions of the North American Free Trade Agreement Implementation Act (Public Law 103-182, 107 Stat. 2057). Under that statute, interest accrues initially from the date the duties, taxes, fees and interest are deposited with Customs in the case of overpayments, or are required to be deposited with Customs in the case of underpayments, but in either case not beyond the date of liquidation or reliquidation of the applicable entry or reconciliation. Also under the statute and applicable judicial precedent, all bills issued by Customs for underpayments of duties, taxes, fees and interest are due within 15 or 30 days of issuance.

The conforming interim amendments also reflected other changes to 19 U.S.C. 1505 and to section 321 of the Tariff Act of 1930 (19 U.S.C. 1321) regarding interest that were made by sections 2(a) and 3(a)(12) of the Miscellaneous Trade and Technical Corrections Act of 1996 (Public Law 104-295, 110 Stat. 3514).

The interim regulatory amendments contained in T.D. 99-75 went into effect on October 20, 1999, and the notice prescribed a public comment period which closed on December 20, 1999. No comments were received during the prescribed public comment period. After further consideration, Customs has determined that the interim regulatory amendments should be adopted as a final rule without change.

Executive Order 12866

This document does not meet the criteria for a “significant regulatory action ”as specified in E.O. 12866.

Regulatory Flexibility Act

Pursuant to the provisions of the Regulatory Flexibility Act (5 U.S.C. 601 et seq.), it is certified that the amendments will not have a significant economic impact on a substantial number of small entities. The amendments conform the Customs Regulations to the terms of statutory provisions, and to the principles reflected in judicial decisions, that are currently in effect. In addition, in some cases, the amendments conform the regulatory provisions to longstanding Customs administrative procedures and practices that confer benefits on, or otherwise militate in favor of, the general public. Accordingly, the amendments are not subject to the regulatory analysis or other requirements of 5 U.S.C. 603 and 604.

List of Subjects

19 CFR Part 24

Accounting, Claims, Customs duties and inspection, Interest, Taxes, User fees, Wages.

19 CFR Part 159

Computer technology, Customs duties and inspection, Entry, Imports, Liquidation.

19 CFR Part 174

Administrative practice and procedure, Customs duties and inspection, Protests.

Amendments to the Regulations

For the reasons stated in the preamble, under the authority of 19 U.S.C. 66 and 1624 the interim rule amending 19 CFR Parts 24, 159 and 174 which was published at 64 FR 56433 on October 20, 1999, is adopted as a final rule without change.

Raymond W. Kelly,
Commissioner of Customs.
Approved: April 26, 2000.
John P. Simpson,
Deputy Assistant Secretary of the Treasury.

[FR Doc. 00-12364 Filed 5-16-00; 8:45 am]

BILLING CODE 4820-02-P